DEPARTMENT OF ENERGY

Federal Energy Regulatory Commission

[Docket No. CP02-37-002]

Williston Basin Interstate Pipeline Company; Notice of Amendment

October 7, 2002.

Take notice that on September 27, 2002, Williston Basin Interstate Pipeline Company (Williston Basin), P.O. Box 5601, Bismarck, North Dakota 58506-5601, filed an amendment to its pending application filed on November 30, 2001, in Docket No. CP02-37-000, pursuant to sections 7(c) and 7(b) of the Natural Gas Act (NGA), to modify the construction of the Grasslands Project by proposing 72 miles of reroutes, modifying facility construction to reduce the proposed maximum firm daily design delivery capacity from 120,000 dekatherms of natural gas per day to 80,000 dekatherms of natural gas per day and abandoning certain facilities, all as more fully set forth in the amendment which is on file with the Commission and open to public inspection. This filing is available for review at the Commission in the Public Reference Room or may be viewed on the Commission's Web site at http://www.ferc.gov. using the “FERRIS” link. Enter the docket number excluding the last three digits in the docket number field to access the document. For Assistance, call (202) 502-8222 or for TTY (202) 502-8659.

Specifically, Williston Basin states that it no longer requests authorization to construct and operate the Cabin Creek South and Recluse compressor stations. Williston Basin further states that it will no longer be necessary to construct an amine treatment facility as part of its proposal.

In addition, Williston Basin seeks authority in the amended proposal to:

• Install an additional 1,200 horsepower (hp) compressor unit at the existing Cabin Creek compressor station;

• Install electric coolers at the proposed Manning compressor station instead of running the coolers off the horsepower produced at the station;

• Increase the maximum allowable operating pressure (MAOP) on 28 miles of the existing 8-inch diameter Bitter Creek supply lateral in Wyoming from 1,203 psig to 1,440 psig;

• Replace three existing underground road crossings on the existing 8-inch Bitter Creek supply lateral with heavier grade pipeline to meet Department of Transportation requirements and to abandon in place the three existing underground road crossings being replaced;

• Modify the pipeline route by proposing 72 miles of pipeline re-routes due to landowner, environmental and construction concerns;

• Construct an alternate route, referred to as the Gunsite Pass Route, should Williston Basin not be able to utilize its originally proposed route;

• Change the method of calculating the volume-pressure relationship from the Panhandle Eastern method to the Colebrook method; and

• Defer $1.0 million of depreciation expense annually for the first three and one-half years of the Grasslands Project to be recovered over the following three and one-half years.

Williston Basin also proposes to revise its original construction schedule and construct the project in three phases with the option to construct Phase II and/or Phase III earlier than scheduled should Williston Basin determine that sufficient additional requests for capacity justify the earlier construction. It is stated that Williston Basin currently plans to construct Phase I to be in service effective November 1, 2003, Phase II to be in service effective November 1, 2004 and Phase III to be in service effective November 1, 2005.

Any questions regarding the amendment should be directed to Keith A. Tiggelaar, Director of Regulatory Affairs, Williston Basin Interstate Pipeline Company, P.O. Box 5601, Bismarck, North Dakota 58506-5601, at (701) 530-1560, or E-mail: keith.tiggelaar@wbip.com.

There are two ways to become involved in the Commission's review of this project. First, any person wishing to obtain legal status by becoming a party to the proceedings for this project should, on or before October 28, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings. Comments, protests and interventions may be filed electronically via the Internet in lieu of paper. See, 18 CFR 385.2001(a)(1)(iii) and the instructions on the Commission's web site under the “e-Filing” link.

If the Commission decides to set the amendment for a formal hearing before an Administrative Law Judge, the Commission will issue another notice describing that process. At the end of the Commission's review process, a final Commission order approving or denying a certificate will be issued.

All persons who have heretofore filed need not file again.

Linwood A. Watson, Jr.,
Deputy Secretary.

[FR Doc. 02-25976 Filed 10-10-02; 8:45 am]

BILLING CODE 6717-01-P